DEPARTMENT OF AGRICULTURE

Forest Service

Withdrawal for Notice of Intent To Prepare an Environmental Impact Statement for the Rio Grande National Forest; Colorado; Wolf Creek Access Project

AGENCY: Forest Service, USDA.

ACTION: Notice of withdrawal.

SUMMARY: On September 23, 2008, a Notice of Intent (NOI) to prepare an Environmental Impact Statement for the Wolf Creek Access Project was published in the 73 FR 54786. This NOI is hereby rescinded because the project has been cancelled.

Dated: February 12, 2009.
Dan S. Dallas,
Forest Supervisor/Center Manager.

[FR Doc. E9-4771 Filed 3-5-09; 8:45 am]

BILLING CODE 3410-11-P